DEPARTMENT OF ENERGY

Federal Energy Regulatory Commission

[Docket No. RP01-318-001]

Williston Basin Interstate Pipeline Company; Notice of Compliance Filing

May 7, 2001.

Take notice that on May 3, 2001, Williston Basin Interstate Pipeline Company (Williston Basin), tendered for filing its response to the Commission's Order On Filings In Compliance With Order No. 587-M, issued Arpil 26, 2001 in Docket No. RM96-1-015.

Williston Basin states that it believes it has already complied with the Commission's Order since Williston Basin adopted by reference in its March 30, 2001 compliance filing in Docket No. RP01-318-000 GISB's revised Standard 5.3.30 by listing such standard under the Capacity Release section of Subsection 47.2 of Seventh Revised Sheet No. 371.

Any person desiring to protest said filing should file a protest with the Federal Energy Regulatory Commission, 888 First Street, NE, Washington, DC 20426, in accordance with Section 385.211 of the Commission's Rules and Regulations. All such protests must be filed in accordance with Section 154.210 of the Commission's Regulations. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance). Comments, protests and interventions may be filed electronically via the internet in lieu of paper. See, 18 CFR 385.2001(a)(1)(iii) and the instructions on the Commission's web site at http://www.ferc.fed.us/efi/doorbell.htm.

David P. Boergers,
Secretary.

[FR Doc. 01-11893 Filed 5-10-01;8:45 am]

BILLING DATE 6717-01-M